DEPARTMENT OF AGRICULTURE

Forest Service

Lake Tahoe Basin Federal Advisory Committee (LTFAC)

AGENCY: Forest Service, USDA.

ACTION: Notice of meeting.

SUMMARY: The Lake Tahoe Federal Advisory Committee will meet in Incline Village, NV. This Committee, established by the Secretary of Agriculture on December 15, 1998 (64 FR 2876), is chartered to provide advice to the Secretary on implementing the terms of the Federal Interagency Partnership on the Lake Tahoe Region and other matters raised by the Secretary. The meeting is open to the public. The purpose of the meeting is to provide updates on the 2011 Tahoe Summit held on August 16, 2011 and the Southern Nevada Public Management Act Executives meeting.

DATES: The meeting will be held August 23, 2011, 9 a.m. to 12 p.m.

ADDRESSES: The meeting will be held at the Tahoe Center for Environmental Science, 291 Country Club Drive, Incline Village, NV 89451.

Written comments may be submitted as described under SUPPLEMENTARY INFORMATION. All comments, including names and addresses when provided, are placed in the record and are available for public inspection and copying. The public may inspect comments received at Lake Tahoe Basin Management Unit, 35 College Drive, South Lake Tahoe, CA 96150. Please call ahead to (530) 543-2773 to facilitate entry into the building to view comments.

FOR FURTHER INFORMATION CONTACT: Arla Hains, Administrative Assistant to the Forest Supervisor, Lake Tahoe Basin Management Unit, (530) 543-2773, ashains@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed FOR FURTHER INFORMATION.

SUPPLEMENTARY INFORMATION: The following business will be conducted: (1) The Southern Nevada Public Land Management Act Round 12 secondary list; (2) the role of the LTFAC in the future, and (3) public comment. The full agenda may be previewed at www.fs.usda.gov/goto/ltbmu/LTFAC. Anyone who would like to bring related matters to the attention of the committee may file written statements with the committee staff before or after the meeting. The agenda will include time for people to make oral statements of three minutes or less. Individuals wishing to make an oral statement should request in writing by August 18, 2011 to be scheduled on the agenda. Written comments and requests for time for oral comments must be sent to 35 College Drive, South Lake Tahoe, CA 96150, or by e-mail to ashains@fs.fed.us, or via facsimile to (530) 543-2739.

A summary of the meeting will be posted at http://www.fs.usda.gov/goto/ltbmu/LTFAC within 21 days of the meeting.

Dated: July 27, 2011.
Jeff Marsolais,
Deputy Forest Supervisor.

[FR Doc. 2011-19538 Filed 8-1-11; 8:45 am]

BILLING CODE 3410-11-P